DEPARTMENT OF JUSTICE

Notice of Lodging of Partial Consent Decree Under the Clean Water Act

Under 28 CFR 50.7, notice is hereby given that on December 3, 2003, a proposed Consent Decree on Combined Sewer Overflows, Wastewater Treatment Plants and Implementation of Capacity Assurance Program Plan (“proposed Final Consent Decree”) in United States and State of Ohio v. Board of County Commissioners of Hamilton County and the City of Cincinnati, Civil Action Nos. C-1-02-107 and C-1-02-108, was lodged with the United States District Court for the Southern District of Ohio. On February 15, 2003, the United States previously lodged a proposed Interim Partial Consent Decree on Sanitary Sewer Overflows (“proposed IPCD”). Notice of the proposed IPCD was previously published in the Federal Register, and public comments were received on the proposed IPCD from February 28-March 28, 2002. 67 F.R. 9320-21 (Feb. 28, 2002).

On February 15, 2003, concurrently with the lodging of the proposed IPCD, the United States and State of Ohio filed separate complaints seeking injunctive relief from defendants for unauthorized discharges from their sanitary sewer system, located in Hamilton County, Ohio. These unauthorized discharges are also known as sanitary sewer overflows, or SSOs, and are violations of the Clean Water Act. On December 3, 2003, concurrently with the lodging of the proposed Final Consent Decree, the United States, State of Ohio, and Ohio River Valley Water Sanitation Commission (“ORSANCO”) filed a Joint Amended Complaint seeking injunctive relief and civil penalties from defendants for violations of the Clean Water Act as well as State and ORSANCO laws and regulations relating to SSOs, combined sewer overflows (CSOs), and defendants' wastewater treatment plants (“WWTPs”). In addition, the United States seeks injunctive relief pursuant to Section 504 of the Clean Water Act, 33 U.S.C. 1364, for an imminent and substantial endangerment resulting from backups of sewage into basements.

The proposed IPCD and the proposed Final Decree, taken together, require the defendants to: Implement an interim and then permanent remedy for SSO 700; to implement certain specified capital improvement projects for certain SSOs and CSOs; to perform modeling and analysis of their sanitary sewer system; to propose a comprehensive Capacity Assurance Program Plan (“CAPP”) to address their remaining SSOs and to provide adequate future system capacity; to develop and implement a Long Term Control Plan Update (“LTCPU”) to greatly reduce CSOs and bypassing at WWTPs and bring them into compliance with the law; to implement the CAPP and LTCPU, once they are approved by the plaintiffs; to implement a comprehensive sewage “basement backup” program, including interim prevention (e.g., installing backflow prevention devices in houses to prevent sewage in basement), long-term prevention (implementing any additional remedial measures beyond those required by the CAPP or LTCPU to provide adequate sewer capacity to prevent basement backups in the future), cleanup for houses that have had backups, and reimbursement for losses to real or personal property caused by the backups; to perform several Supplemental Environmental Projects, which must cost a minimum of $5.3 million; and to pay a civil penalty of $1.2 million.

The Department of Justice will receive for a period of thirty (30) days from the date of this publication comments relating to the proposed Final Consent Decree and/or the proposed IPCD. (Commenters who have previously submitted comments on the proposed IPCD need not reiterate their comments, and these will be re-reviewed and re-considered by the United States in light of the proposed Final Consent Decree.) Comments should be addressed to the Assistant Attorney General, Environment and Natural Resources Division, P.O. Box 7611, U.S. Department of Justice, Washington, D.C. 20044-7611, and should refer to United States and State of Ohio v. Board of County Commissioners of Hamilton County and the City of Cincinnati, D.J. Ref. 90-5-1-6-341A.

The Final Consent Decree and/or the IPCD may be examined at the Office of the United States Attorney for the Southern District of Ohio, 221 E. 4th Street, Atrium II, Suite 400, Cincinnati, Ohio 45202, and at U.S. EPA Region V, 77 West Jackson Blvd, Chicago, IL 60604-3590. A copy of the Final Consent Decree and/or IPCD may also be obtained by mail from the Consent Decree Library, P.O. Box 7611, U.S. Department of Justice, Washington, DC 20044-7611. During the public comment period, the Final Consent Decree and/or IPCD may also be examined on the following Department of Justice Web site, http://www.usdoj.gov/enrd/open.html. A copy of the Final Consent Decree and/or IPCD may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of either or both proposed consent decrees, please enclose a check payable to the U.S. Treasury for reproduction costs (at 25 cents per page) as follows:

IPCD, inclusive of Exhibits: $209.00;

IPCD, exclusive of Exhibits: $18.75;

Final Consent Decree, inclusive of Exhibits: $47.00;

Final Consent Decree, exclusive of Exhibits: $27.25.

William D. Brighton,
Assistant Chief, Environmental Enforcement Section, Environment and Natural Resources Division.

[FR Doc. 03-30470 Filed 12-8-03; 8:45 am]

BILLING CODE 4410-15-M